DEPARTMENT OF STATE

[Delegation of Authority 294]

Delegation by the Secretary of State to the Under Secretary for Political Affairs of Authorities Normally Vested in the Deputy Secretary

By virtue of the authority vested in me as Secretary of State, including Section l of the State Department Basic Authorities Act, as amended (22 U.S.C. 2651a), I hereby delegate to the Under Secretary for Political Affairs, to the extent authorized by law, all authorities and functions vested in the Deputy Secretary of State, including all authorities and functions vested in the Secretary of State or the head of agency that have been or may be delegated or re-delegated to the Deputy Secretary.

Any authority or function covered by this delegation of authority may also be exercised by the Secretary of State.

Any act, executive order, regulation, or procedure subject to, or affected by, this delegation of authority shall be deemed to be such act, executive order, regulation, or procedure as amended from time to time.

This delegation of authority shall enter into force on July 8, 2006 and shall expire upon the appointment and entry upon duty of a new Deputy Secretary.

All existing delegations of authority now in effect, including any re-delegation of authority by the Deputy Secretary, shall remain in effect.

This delegation of authority shall be published in the Federal Register.

Condoleezza Rice,
Secretary of State, Department of State.

[FR Doc. E6-11557 Filed 7-19-06; 8:45 am]

BILLING CODE 4710-08-P